DEPARTMENT OF HOMELAND SECURITY

Coast Guard

33 CFR Part 165

[Docket No. USCG-2013-0760]

RIN 1625-AA11

Regulated Navigation Area; Reporting Requirements for Barges Loaded With Certain Dangerous Cargoes, Inland Rivers, Eighth Coast Guard District; Stay (Suspension) Expiring

AGENCY: Coast Guard, DHS.

ACTION: Notice of intent.

SUMMARY: The stay of reporting requirements under the Regulated Navigation Area (RNA) applicable to barges loaded with certain dangerous cargoes on the inland rivers in the Eighth District area of responsibility (AOR) is scheduled to expire on December 31, 2015. The Coast Guard intends to allow the stay to expire in part. Once the stay partially expires, RNA reporting requirements in a limited form will resume under the existing regulation. The Coast Guard is developing an amendment to the existing regulation.

DATES: November 24, 2015.

FOR FURTHER INFORMATION CONTACT: For information about this document call or email Shelley Miller, Coast Guard; telephone 504-671-2330, email Shelley.R.Miller@uscg.mil.

SUPPLEMENTARY INFORMATION:

I. Background and Regulatory History

The reporting requirements under 33 CFR 165.830, “Regulated Navigation Area; Reporting Requirements for Barges Loaded with Certain Dangerous Cargoes, Inland Rivers, Eighth Coast Guard District,” were initially suspended in January 2011 due to the expiration of the contract for the reporting system at the Inland River Vessel Movement Center (IRVMC). This suspension was published in the Federal Register on January 10, 2011 and was due to expire on January 15, 2013 (76 FR 1360). On January 2, 2013, the Coast Guard extended this suspension through September 30, 2013 (78 FR 25) and on October 1, 2013, the Coast Guard extended the suspension again through December 31, 2015 (78 FR 60216). The suspension of reporting requirements is scheduled to expire on December 31, 2015.

Additionally, the Coast Guard published a final rule in January 2015 (80 FR 5282), titled Vessel Requirements for Notices of Arrival and Departure, and Automatic Identification System. This rule contains an exemption, at 33 CFR 160.204(a)(3), for any vessel required to report its movements, its cargo, or the cargo in barges it is towing under 33 CFR 165.830 after December 31, 2015.

II. Discussion

The Coast Guard intends to allow the suspension of certain reporting requirements under 33 CFR 165.830 to expire as scheduled. The Coast Guard does not intend to reinstate reporting, 24 hours per day, 365 days per year, at 90 plus reporting points under the RNA as currently published. Rather, we anticipate reporting will be required in response to specific concerns, under a limited form of the RNA currently in the CFR.

Specifically, the Coast Guard is considering whether existing § 165.830(d)(1)(ix), (d)(2)(iv), (f)(9), (g)(4), and (h) of the existing RNA may take effect on January 1, 2016, with revisions to the references to IRVMC. Although we have not yet developed revisions to the existing regulation, we are publishing this document to inform members of the public who are aware of, and may have questions about, the upcoming expiration of the suspension.

This document is issued under authority of 5 U.S.C. 552(a).

Dated: November 9, 2015.
D.R. Callahan,
Rear Admiral, U.S. Coast Guard, Commander, Eighth Coast Guard District.

[FR Doc. 2015-29714 Filed 11-23-15; 8:45 am]

BILLING CODE 9110-04-P